DEPARTMENT OF HOUSING AND URBAN DEVELOPMENT

[Docket No. FR-5200-FA-04]

Announcement of Funding Awards for the Rural Housing and Economic Development Program Fiscal Year 2008

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie L. Williams, PhD, Director, Office of Rural Housing and Economic Development, Office of Community Planning and Development, 451 Seventh Street, SW., Room 7137, Washington, DC 20410-7000; telephone (202) 708-2290 (this is not a toll free number). Hearing- and- speech impaired persons may access this number via TTY by calling the Federal Relay Service toll-free at 1-800-877-8339. For general information on this and other HUD programs, call Community Connections at 1-800-998-9999 or visit the HUD Web site at http://www.hud.gov.

SUPPLEMENTARY INFORMATION: The Rural Housing and Economic Development program was authorized by the Department of Veterans Affairs, Housing and Urban Development and Independent Agencies Appropriations Act of 1999. The competition was announced in the NOFA published April 28, 2008 (73 FR 23052). Applications were rated and selected for funding on the basis of selection criteria contained in that notice.

The Catalog of Federal Domestic Assistance number for this program is 14.250.

The Rural Housing and Economic Development Program is designed to build capacity at the State and local level for rural housing and economic development and to support innovative housing and economic development activities in rural areas. Eligible applicants are local rural non-profit organizations, community development corporations, federally recognized Indian tribes, State housing finance agencies, and State community and/or economic development agencies. The funds made available under this program were awarded competitively, through a selection process conducted by HUD. Prior to the rating and ranking of this year's applications, Southern Financial Partners in Arkadelphia, Arkansas, for the Fiscal year 2008 competition, was awarded a total of $149,683 as a result of funding errors during the previous year's funding. For the Fiscal year 2008 competition, a total of $16,889,633 was awarded to 60 projects nationwide.

In accordance with section 102(a)(4)(C) of the Department of Housing and Urban Development Reform Act of 1989 (103 Stat. 1987. 42 U.S.C. 3545), the Department is publishing the grantees and amounts of the awards in Appendix A to this document.

Dated: August 10, 2009.
Mercedes Márquez,
Assistant Secretary for Community Planning Development.

FY 2008 Rural Housing and Economic Development Program Grantees
Tribal Government of St. Paul Island | AK | $300,000.00
Organized Village of Kasaan | AK | 300,000.00
Hale Empowerment and Revitalization Organization, Inc | AL | 300,000.00
Collaborative Solutions, Inc. | AL | 300,000.00
Crawford-Sebastian Community Development Council, Inc. | AR | 250,344.00
Moenkopi Developers Corporation, Inc. | AZ | 298,626.00
Comite de Bien Estar, Inc. | AZ | 300,000.00
Hopi Tribe | AZ | 296,800.00
International Sonoran Desert Alliance | AZ | 300,000.00
White Mountain Apache Housing Authority | AZ | 300,000.00
Nogales Community Development Corporation (NCD) | AZ | 300,000.00
Bear River Band of Rohnerville Rancheria | CA | 300,000.00
Timbisha Shoshone Tribe | CA | 124,000.00
Karuk Tribe of California | CA | 300,000.00
Bishop Paiute Tribe | CA | 296,410.00
The Relational Culture Institute | CA | 300,000.00
Big Pine Paiute Tribe | CA | 284,968.00
Tule River Tribal Council | CA | 300,000.00
Empowerment Alliance of SW Florida, CDC | FL | 300,000.00
Young Adult Development in Action, Inc. | KY | 300,000.00
People's Self-Help Housing, Inc. | KY | 300,000.00
Low Income Housing Coalition of East Kentucky, Inc. | KY | 300,000.00
McCreary County Community Housing Development Corporation | KY | 300,000.00
Frontier Housing, Inc. | KY | 300,000.00
Southeast Kentucky Economic Development Corporation | KY | 300,000.00
Louisiana Technical College Tallulah Foundation | LA | 300,000.00
START Corporation | LA | 300,000.00
SEVENTH DISTRICT PAVILION, INC. | LA | 300,000.00
Four Directions Development Corporation | ME | 299,367.00
Midwest Minnesota Community Development Corporation | MN | 200,000.00
Fond du Lac Band of Lake Superior Chippewa | MN | 300,000.00
Northcountry Cooperative Foundation | MN | 250,000.00
Community Developers of Beaufort-Hyde, Inc. | NC | 210,400.00
Hollister R.E.A.C.H., Inc. | NC | 299,850.00
Dawson County Area Economic Development Council | NE | 287,724.00
Ohkay Owingeh Housing Authority | NM | 300,000.00
New Mexico Mortgage Finance Authority | NM | 300,000.00
TIERRA DEL SOL HOUSING CORPORATION | NM | 300,000.00
Community Area Resource Enterprise | NM | 300,000.00
Picuris Pueblo | NM | 300,000.00
Habitat for Humanity of Taos, Inc. | NM | 300,000.00
Center of Southwest Culture, Inc. | NM | 65,714.00
Little Dixie Community Action Agency, INC | OK | 300,000.00
Confederated Tribes of Siletz Indians | OR | 299,871.00
Umatilla Reservation Housing Authority | OR | 300,000.00
Community And Shelter Assistance Corp. | OR | 300,000.00
Ceiba Housing and Economic Development Corporation | PR | 300,000.00
Woonsocket Neighborhood Development Corporation d/b/a NWBRV | RI | 300,000.00
The Lakota Funds | SD | 300,000.00
Thunder Valley CDC | SD | 299,775.00
Oglala Sioux Tribe Partnership for Housing, Inc. | SD | 136,000.00
Volunteer Housing Development Corporation | TN | 289,864.00
Community Development Corporation of Brownsville | TX | 300,000.00
La Fe Community Development Corporation | TX | 300,000.00
Community Development Corporation of Utah | UT | 300,000.00
Aneth Community Development Corporation | UT | 299,920.00
Makah Indian Tribe | WA | 300,000.00
Southern Puget Sound Inter-tribal Housing Authority | WA | 300,000.00
NiiJii Small Business Loan Fund, Inc. | WI | 300,000.00
St. Croix Chippewa Indians of Wisconsin | WI | 100,000.00
|  | 16,889,633.00

[FR Doc. E9-21207 Filed 9-1-09; 8:45 am]

BILLING CODE 4210-67-P